DEPARTMENT OF ENERGY

Federal Energy Regulatory Commission

Combined Notice of Filings #1

December 3, 2008.

Take notice that the Commission received the following electric corporate filings:

Docket Numbers: EC09-26-000.

Applicants: MidAmerican Energy Holdings Company, CER Generation II, LLC, West Valley Holdings, LLC.

Description: Joint Application for Authorization Under Section 203 of the Federal Power Act, Request for Waiver of Certain Commission Requirements, and Requests for Confidential Treatment and Expedited Treatment.

Filed Date: 12/2/2008.

Accession Number: 20081202-5119.

Comment Date: 5 p.m. Eastern Time on Tuesday, December 23, 2008.

Take notice that the Commission received the following electric rate filings:

Docket Numbers: ER91-195-054; EL07-69-004.

Applicants: Western Systems Power Pool.

Description: Western Systems Power Pool, Inc submits revisions to the WSPP Agreement to comply with FERC's 9/29/08 Order.

Filed Date: 11/25/2008.

Accession Number: 20081201-0085.

Comment Date: 5 p.m. Eastern Time on Tuesday, December 16, 2008.

Docket Numbers: ER99-2156-017; ER97-2801-025; ER96-719-024.

Applicants: Cordova Energy Company LLC; PacifiCorp.

Description: Cordova Energy Company LLC, et al. submits the Updated Market Power Analysis.

Filed Date: 12/03/2008.

Accession Number: 20081203-5058.

Comment Date: 5 p.m. Eastern Time on Monday, February 2, 2008.

Docket Numbers: ER99-2923-005.

Applicants: Phelps Dodge Energy Services, LLC.

Description: Phelps Dodge Energy Services, LLC notifies the Commission of developments constituting non-material changes that do not affect the Project Company's market based rate status pursuant to Order 697 and 697-A.

Filed Date: 11/26/2008.

Accession Number: 20081202-0047.

Comment Date: 5 p.m. Eastern Time on Wednesday, December 17, 2008.

Docket Numbers: ER04-1221-003; ER03-49-005; ER99-970-007.

Applicants: Mankato Energy Center, LLC; Riverside Energy Center, LLC; RockGen Energy LLC.

Description: Mankato Energy Center, LLC et al request that the Commission waiver the 60-day prior notice requirement to permit the ASM-related revisions to become effective 1/6/09 pursuant to Order 697-A.

Filed Date: 11/26/2008.

Accession Number: 20081202-0046.

Comment Date: 5 p.m. Eastern Time on Wednesday, December 17, 2008.

Docket Numbers: ER08-1113-002.

Applicants: California Independent System Operator Corporation.

Description: California Independent System Operator Corp submits proposed tariff language to comply with the Commission's 9/19/08 Order.

Filed Date: 11/25/2008.

Accession Number: 20081201-0083.

Comment Date: 5 p.m. Eastern Time on Tuesday, December 16, 2008.

Docket Numbers: ER08-1172-002.

Applicants: Grand Ridge Energy LLC.

Description: Notification of Non-Material Change in Facts of Grand Ridge Energy LLC.

Filed Date: 11/25/2008.

Accession Number: 20081125-5064.

Comment Date: 5 p.m. Eastern Time on Tuesday, December 16, 2008.

Docket Numbers: ER08-1373-001.

Applicants: Otter Tail Power Company.

Description: Otter Tail Power Co submits revisions to its Control Area Services and Operations Tariff to comply with the Commission's 10/28/08 order.

Filed Date: 11/25/2008.

Accession Number: 20081201-0086.

Comment Date: 5 p.m. Eastern Time on Tuesday, December 16, 2008.

Docket Numbers: ER09-295-000.

Applicants: San Diego Gas & Electric Company.

Description: San Diego Gas & Electric Co submits Original Sheet 169a et al. to FERC Electric Tariff, Original Volume 11, with a proposed effective 9/1/09 under ER09-295. Appendix IX.

Filed Date: 11/14/2008.

Accession Number: 20081203-0262.

Comment Date: 5 p.m. Eastern Time on Thursday, December 24, 2008.

Docket Numbers: ER09-297-001.

Applicants: Michigan Wind 1, LLC.

Description: Michigan Wind 1, LLC submits revisions to the tariff designation that was included in the Notice of Succession filed 11/13/08.

Filed Date: 11/25/2008.

Accession Number: 20081201-0084.

Comment Date: 5 p.m. Eastern Time on Tuesday, December 16, 2008.

Docket Numbers: ER09-336-000.

Applicants: Southwest Power Pool, Inc.

Description: Southwest Power Pool, Inc submits Original Sheet 1234 to FERC Electric Tariff, Fifth Revised Volume 1 sheets to adopt Attachment AP of the SPP Open Access Transmission Tariff, to be effective 1/24/09.

Filed Date: 11/25/2008.

Accession Number: 20081201-0082.

Comment Date: 5 p.m. Eastern Time on Tuesday, December 16, 2008.

Docket Numbers: ER09-337-000.

Applicants: Ameren Energy Generating Company.

Description: Ameren Energy Generating Company submits proposed Rate Schedule FERC 5 and supporting cost data which specifies its revenue requirement for Reactive Supply and Voltage Control from Generation Sources Service.

Filed Date: 11/25/2008.

Accession Number: 20081201-0081.

Comment Date: 5 p.m. Eastern Time on Tuesday, December 16, 2008.

Docket Numbers: ER09-338-000.

Applicants: Pinnacle West Marketing & Trading Co, LLC.

Description: Pinnacle West Marketing & Trading Co, LLC submits Notice of Cancellation of Rate Schedule FERC 1 that terminates their market-based rate tariff, to be effective 12/31/08.

Filed Date: 11/25/2008.

Accession Number: 20081201-0080.

Comment Date: 5 p.m. Eastern Time on Tuesday, December 16, 2008.

Docket Numbers: ER09-339-000.

Applicants: Crystal Lake Wind, LLC.

Description: Crystal Lake Wind, LLC resubmits the Shared Facilities Agreement with Crystal Lake Wind II, LLC dated 11/21/08, designated as FERC Rate Schedule 1, effective 12/1/08.

Filed Date: 11/25/2008.

Accession Number: 20081201-0079.

Comment Date: 5 p.m. Eastern Time on Tuesday, December 16, 2008.

Docket Numbers: ER09-340-000.

Applicants: Public Service Company of New Hampshire.

Description: Public Service Company of New Hampshire submits revised tariff sheets indicating the cancellation of their Rate Schedule 158, Supplement 1 which is the Unit Sales Agreement with UNITIL Power Corp.

Filed Date: 11/25/2008.

Accession Number: 20081201-0078.

Comment Date: 5 p.m. Eastern Time on Tuesday, December 16, 2008.

Docket Numbers: ER09-341-000.

Applicants: Southern California Edison Company.

Description: Southern California Edison Co submits a revised rate sheet for the Interconnection Facilities Agreement with City of Moreno Valley etc.

Filed Date: 11/25/2008.

Accession Number: 20081201-0077.

Comment Date: 5 p.m. Eastern Time on Tuesday, December 16, 2008.

Docket Numbers: ER09-342-000.

Applicants: Southwest Power Pool, Inc.

Description: Southwest Power Pool, Inc submits a partially executed Service Agreement for Network Integration Transmission Service with American Electric Power Service Corp et al.

Filed Date: 11/25/2008.

Accession Number: 20081201-0076.

Comment Date: 5 p.m. Eastern Time on Tuesday, December 16, 2008.

Docket Numbers: ER09-344-000.

Applicants: California Independent System Operator C.

Description: California Independent System Operator Corp submits an executed Amended and Restated Big Creek Physical Scheduling Plant Agreement with Southern California Edison Co.

Filed Date: 11/26/2008.

Accession Number: 20081201-0089.

Comment Date: 5 p.m. Eastern Time on Wednesday, December 17, 2008.

Docket Numbers: ER09-345-000.

Applicants: United Illuminating Company, The.

Description: The United Illuminating Co submits proposed modifications to Schedule 21-U1 of the ISO New England Inc Transmission, Markets and Services Tariff etc.

Filed Date: 11/26/2008.

Accession Number: 20081201-0088.

Comment Date: 5 p.m. Eastern Time on Wednesday, December 17, 2008.

Docket Numbers: ER09-347-000.

Applicants: Southern California Edison Company.

Description: Southern California Edison Co submits the Foxborough Development Wholesale Distribution Load Interconnection Facilities Agreement et al. with City of Victorville.

Filed Date: 11/26/2008.

Accession Number: 20081201-0087.

Comment Date: 5 p.m. Eastern Time on Wednesday, December 17, 2008.

Docket Numbers: ER09-348-000.

Applicants: Westar Energy, Inc.

Description: Westar Energy, Inc & Kansas Gas and Electric Co submits Third Revised Sheet 1 and 11 to First Revised Rate Schedule FERC 168, the Electric Power Supply Agreement, with the City of Arma, Kansas.

Filed Date: 11/26/2008.

Accession Number: 20081201-0093.

Comment Date: 5 p.m. Eastern Time on Wednesday, December 17, 2008.

Docket Numbers: ER09-350-000.

Applicants: WSPP Inc.

Description: WSPP, Inc submits proposed revisions to their Agreement.

Filed Date: 11/26/2008.

Accession Number: 20081201-0091.

Comment Date: 5 p.m. Eastern Time on Wednesday, December 17, 2008.

Docket Numbers: ER09-351-000.

Applicants: New England Power Pool.

Description: New England Power Pool submits counterpart signature pages of the New England Power Pool Agreement et al. re NEPOOL Member Applications.

Filed Date: 11/26/2008.

Accession Number: 20081201-0090.

Comment Date: 5 p.m. Eastern Time on Wednesday, December 17, 2008.

Take notice that the Commission received the following open access transmission tariff filings:

Docket Numbers: OA08-9-003.

Applicants: PJM Interconnection, L.L.C.

Description: Order No. 890 Compliance Filing under OA08-9.

Filed Date: 12/01/2008.

Accession Number: 20081201-5126.

Comment Date: 5 p.m. Eastern Time on Monday, December 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-29370 Filed 12-10-08; 8:45 am]

BILLING CODE 6717-01-P